DEPARTMENT OF TRANSPORTATION

Coast Guard

[USCG-2001-9267]

Approval for Experimental Shipboard Installations of Ballast Water Treatment Systems

AGENCY: Coast Guard, DOT.

ACTION: Request for comments.

SUMMARY: The Coast Guard is requesting comments about how to provide incentives to further develop ballast water treatment (BWT) technologies and reduce the potential for introducing nonindigenous species (NIS) to the waters of the United States via discharged ballast water. Ideally, vessel owners and operators given approval to install prototype BWT systems would be considered to be in compliance with the first set of future BWT requirements, when they are implemented. Depending on the information received, we may begin developing the type of incentives outlined in this notice.

DATES: Comments and related material must reach the Docket Management Facility on or before July 23, 2001.

ADDRESSES: To make sure your comments and related material are not entered in the docket more than once, please submit them by only one of the following means:

(1) By mail to the Docket Management Facility, (USCG-2001-9267) U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) By electronic means through the Web Site for the Docket Management System at http://dms.dot.gov.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For questions on this notice, call Dr. Richard Everett, Project Manager, Office of Operating and Environmental Standards (G-MSO), Coast Guard, telephone 202-267-0214. For questions on viewing or submitting material to the docket, call Dorothy Beard, Chief, Dockets, Department of Transportation, telephone 202-366-5149.

SUPPLEMENTARY INFORMATION:

Request for Comments

We invite you to provide your views on: The program described in this notice; new and other approaches not identified in this notice; the potential impacts of such a program (including possible unintended or unanticipated consequences); and, any supporting or relevant data or information that you would like the Coast Guard to consider during the development of an approval program. Please explain your views as clearly as possible, describe any assumptions used, and provide copies of data or technical information used to support your views. If you submit comments and related material, please include your name and address, identify the docket number for this notice (USCG-2001-9267), indicate the specific section of this document to which each comment applies, and give the reason for each comment. You may submit your comments and material by mail, hand delivery, fax, or electronic means to the Docket Management Facility as indicated under ADDRESSES. Please submit your comments and material by only one means. If you submit them by mail or hand delivery, submit them in an unbound format, no larger than 8½ by 11 inches, suitable for copying and electronic filing. If you submit them by mail and would like to know they reached the Facility, please enclose a stamped, self-addressed postcard or envelope. The Coast Guard will consider all comments received during the comment period.

Why Is the Coast Guard Asking for Comments?

The problem of how to reduce the threat of introducing foreign organisms to the waters of the U.S. via ballast water discharged from vessels is complex. A number of factors contribute to the complexity of this issue, including: The relative volumes and pumping rates involved in ballasting operations; the great variability in voyage durations and routes; and the great variability in the physical, chemical, and biological make up of the ballast water carried by the vessels that operate in U.S. waters.

Under paragraphs (a) and (b) in section 1101 of the Nonindigenous Aquatic Nuisance Prevention and Control Act (Pub. L. 101-646), as amended by the National Invasive Species Act of 1996 (NISA) (Pub. L. 104-332), Congress directed the Coast Guard to issue regulations and guidelines on ballast water management practices to prevent the introduction of NIS to U.S. waters via the discharge of foreign water from ballast tanks of ships. Specifically, these regulations are to identify mid-ocean ballast water exchange (BWE), or environmentally sound alternative ballast water treatment (BWT) methods determined by the Coast Guard to be as effective as BWE in preventing and controlling infestations of aquatic nuisance species, as acceptable BWT technologies. These regulations are contained in 33 CFR part 151, subparts C and D; we issued these regulations on May 17, 1999 (64 FR 26672).

The development of effective BWT technologies, capable of significantly reducing the probability of introducing foreign organisms via ballast water discharges, is essential. The NISA explicitly directs that such technologies must be “as effective as (BWE).” Currently, the actual “effectiveness” of BWE in reducing the threat of introductions is not well resolved. Concerns have been voiced that exchange as a practice will be inherently difficult to quantify. Furthermore, because safe exchange using existing ballast water systems is not practicable on all voyages, exchange is not capable of providing a sufficient level of protection against the introduction of unwanted foreign organisms. An increasing number of alternative BWT technologies are being developed and tested at small, bench-top, or dockside scales. However, complete evaluation and refinement of the capabilities of such systems requires ship-scale installations that are tested for longer periods of time under a wide range of conditions.

As on-board installation and testing costs are likely to be significant, vessel owners are understandably reluctant to participate in on-board testing projects without assurances that installed experimental systems will be accepted for some specified time should regulations come into effect during the testing period.

The Coast Guard is considering developing a program that would allow vessel owners to apply for advance, conditional approval of experimental BWT systems installed and tested on board their operating vessels. Even though only a limited number of the experimental systems would be approved, the program would help nurture the establishment of collaborative partnerships between technology developers and vessel owners while standards and requirements are being developed. If we approve an experimental BWT system under the terms of the program, it would be considered to meet the requirements of the first set of future regulations regarding BWT.

Are There Any Particular Questions the Coast Guard Is Interested in Having Answered?

While we welcome comments on every aspect on this approval program, to help us ensure that studies are conducted according to well-established principles of experimental design and analysis, we encourage opinions on what specific protocols should be included in the studies associated with the program.

What Are the Details Being Considered for This Program for Approval of Experimental Shipboard Installations of BWT Systems?

The basic procedures and conditions envisioned for the approval program are as follows:

Approval Process

Applications for approval of experimental BWT systems would be accepted and reviewed as follows:

• Applications for advance approval of experimental ballast water treatment systems would be accepted at any time.

• Within 10 working days of receiving an application, applicants would be sent (via surface mail, e-mail, or facsimile transmission) a notice of the completeness of the application package. Applicants with incomplete submissions would be sent an explanation of deficiencies. Incomplete application packages would be returned (provided a self-addressed label and sufficient postage are included), or if deficiencies are minimal, held for 30 days in order to allow the applicant to correct the deficiencies.

• Formal, full reviews of supporting data and proposed study plans would be completed within 45 days of receipt of the application.

• Formal reviews would be conducted by panels of biologists and engineers with expertise in experimental investigations of biota associated with ballast water, water treatment technology, naval architecture, and marine engineering.

• The review panels would provide recommendations to the Coast Guard on the acceptability of the supporting evidence and study plans submitted with each application.

• The Coast Guard would accept or reject each application on the basis of reviews by Coast Guard staff and the recommendations of the review panel.

Criteria for Review

Applications for approval of experimental ballast water treatment systems would be evaluated on the completeness of the following information:

• A letter of commitment from the owner of the specified vessel, the manufacturer or developer of the treatment system, and the principle investigators conducting the tests, stating their intents to carry out all components of the study plan for which they are responsible.

• Documentation stating that the residual concentrations of any primary treatment chemicals or chemicals that occur as disinfection by-products meet all applicable local, state, federal, and tribal requirements.

• Documentation from preliminary, smaller scale, experiments that demonstrates the potential of the system to significantly reduce the threat of introducing nonindigenous species via ballast water discharges. The results would demonstrate a taxonomic breadth of effectiveness across a suite of organisms such as bacteria, phytoplankton (including dinoflagellates and diatoms), heterotrophic protists, rotifers, copepods (cyclopoid and harpacticoid; larval, post-larval, and adult life stages), mollusc larvae, polychaete larvae, mysids, decapod crustaceans (crabs and shrimp; larval, post-larval; and adult), and fish.

• Preliminary and proposed testing experiments would control for confounding factors and include statistical analyses that include formal power analyses (a determination of the ability of a particular statistical test to actually detect a difference among the data) for each statistical test.

• A statement with explanations of the scalability of preliminary experiments.

• A detailed study plan that:

1. Is organized according to a standardized format (to be developed).

2. Experimentally compares the effectiveness of the treatment system to the effectiveness of a specified mode of ballast water exchange.

3. Evaluates the effectiveness of the treatment system over a range of operational (including the cumulative hours of operation, volumes treated, and time since the experimental tanks were last cleaned of sediment) and environmental (including abundance of organisms, organic and inorganic “load”, temperature and salinity of water, sea surface characteristics) conditions during operations.

4. Identifies explicit hypotheses about limiting conditions of the specified ship and route.

5. Assures that samples would be representative of the flow or volume from which they are taken.

6. Contains a detailed quality assurance and/or quality control plan.

Conditions of Approval

• Experimental systems would be approved for use on specified ships operating on specified routes.

• Approval of an experimental system would lapse after 1 year if the system was not installed or the testing begun as proposed.

• Experimental systems would be approved for use in all U.S. waters, including the Great Lakes and the Hudson River upstream of the George Washington Bridge.

• Systems approved under the experimental approval program would be considered to meet all BWT requirements promulgated by the Coast Guard for a period of 5 years, or until the first BWT standard is revised, whichever date is earlier. However, in the event that subsequent work reveals adverse effects on ecology or human health, the tests will be discontinued and the approval will lapse.

• Systems approved under the experimental approval program would be subject to all subsequent standards and regulations upon the expiration of the experimental approval period.

• Experimental approval would be contingent on adherence to a detailed study plan designed to test the effectiveness of the treatment system over a specified period of time. The study plan would be described completely in the application and agreed upon by the applicant and the U.S. Coast Guard.

• The experimental team would be required to submit quarterly status reports identifying tasks completed and unanticipated problems. An annual report documenting the work and results to date would be required after every 12 months of testing. A final report documenting the study findings and conclusions would be required no later than six months after the on-board testing is completed.

• Vessels receiving approval for experimental BWT systems would be subject to inspections by Coast Guard personnel to verify the presence and condition of experimental systems.

• The principle scientists and engineers responsible for conducting and analyzing the tests would attend and participate in a technical workshop during which the results of the study, along with other similar studies, would be presented and discussed. The workshops would be organized by the Coast Guard but travel costs and salary would be the responsibility of the participants.

Sample Timeline for Advance Approval Process

Following is an example of a timeline for the approval of an experimental ballast water treatment system. For illustrative purposes, the timeline incorporates the development of a standard and regulations during the test period.

Date | Action
Submit (S) | Application package submitted and reviewed for completeness.
S + 10 days | Application package accepted or rejected for submission to review panel. If complete, application package submitted to independent review panel.
S + 45 days | Application approved or denied. Final approval pends agreement on study plan.
S + 90 days (A) | Study plan negotiated and agreed-upon by Coast Guard and applicant. This date is considered the Approval Date (A). Treatment system considered meeting regulatory requirements for 5 years from this date.
Install (I) | Experimental system installed and adjusted; preliminary organization for study completed. Experimental work begins.
I + 3 months | First progress report submitted to USCG.
I + 6 months | Second progress report submitted to USCG.
I + 9 months | Third Progress report submitted to USCG.
I + 12 months | Annual Report submitted to USCG. Study continues according to schedule, with quarterly and annual reports submitted to the USCG.
Standard/Reg | First U.S. standard and regulations established for ballast water treatment. Operation of experimental system continues under study plan.
A + 5 years | Vessel must meet existing standard and regulations, regardless of date standard and regulations are promulgated.

What Is the Coast Guard's Authority for Taking This Action?

Under 16 U.S.C. 4711, the Coast Guard (acting on behalf of the Secretary of Transportation) is authorized to take this action.

Dated: March 30, 2001.
R.C. North,
Rear Admiral, U.S. Coast Guard, Assistant Commandant for Marine, Safety and Environmental Protection.

[FR Doc. 01-12719 Filed 5-21-01; 8:45 am]

BILLING CODE 4910-15-U